Proclamation 8605 of November 19, 2010

National Farm-City Week, 2010

By the President of the United States of America

A Proclamation

America’s farms have long been vital to our Nation. They contribute to our public health, safeguard our environmental resources, and stand at the forefront of our country’s path toward energy independence. We must continue supporting the vital relationship between American farms and families, and work to ensure that farming remains an economically, socially, and environmentally sustainable way of life for future generations. During National Farm-City Week, we recognize the myriad contributions our Nation’s farmers and ranchers make toward furthering the health and well-being of our country.

The connection between rural industries and urban markets is stronger than ever, and Americans across the country are finding ways to participate in and celebrate the importance of agriculture and related industries. Rising interest in local and regional food highlights farmers’ contributions in connecting urban, suburban, and rural areas. American children are learning about the origins of our food and healthy food options by visiting farms, learning from hard-working farmers and ranchers, and trying their hand at agriculture through networks of school gardens and farm-to-school programs. Thanks to their constant enterprise and innovation, rural communities are building new domestic and international markets for their high-quality food, fuel, and fiber products. As our agricultural industries continue to feed individuals at home and around the globe, we must help ensure robust and vibrant rural communities to support them.

For agriculture to thrive, we must remain committed to protecting our valuable natural resources and diverse ecosystems. In April, I launched the America’s Great Outdoors Initiative to develop a 21st-century conservation agenda that will reconnect Americans with the outdoors and protect our Nation’s vast and varied natural heritage. Senior officials throughout my Administration have travelled across the country to farms, State fairs, and community meetings to learn about innovative ways farmers, ranchers, tribes, conservationists, and concerned citizens are working together to preserve our rich agricultural legacy.

While we gather with family and friends during this time of Thanksgiving, let us celebrate farms of every size that produce the abundance that graces our tables. During National Farm-City Week, as the bounty of agriculture moves from America’s farms to our tables, we honor all who foster our healthier future.

NOW, THEREFORE, I, BARACK OBAMA, President of the United States of America, by virtue of the authority vested in me by the Constitution and the laws of the United States, do hereby proclaim November 19 through November 25, 2010, as National Farm-City Week. I call on all Americans to reflect on the accomplishments of those who dedicate their lives to promoting our Nation’s agricultural abundance and environmental stewardship.

IN WITNESS WHEREOF, I have hereunto set my hand this nineteenth day of November, in the year of our Lord two thousand ten, and of the Independence of the United States of America the two hundred and thirty-fifth.

[FR Doc. 2010-29800

Filed 11-23-10; 8:45 am]

Billing code 3195-W1-P